DEPARTMENT OF JUSTICE

Antitrust Division

Notice Pursuant to the National Cooperative Research and Production Act of 1993—Service Creation Community (SCC)

Notice is hereby given that, on July 7, 2003, pursuant to section 6(a) of the National Cooperative Research and Production Act of 1993, 15 U.S.C. 4301 et seq. (“the Act”), Service Creation Community (SCC) has filed written notifications simultaneously with the Attorney General and the Federal Trade Commission disclosing changes in its membership status. The notifications were filed for the purpose of extending the Act's provisions limiting the recovery of antitrust plaintiffs to actual damages under specified circumstances. Specifically, Accenture, Dallas, TX; ADC Telecommunications, Rumson, NJ; Ai Metrix, El Dorado Hills, CA; BT, Billericay, United Kingdom; Broadband Content Coalition, Guilford, United Kingdom; Current Analysis, Sterling, VA; Infonautics Consulting, Inc., Ramsey, NJ; InStat/MDR, Scottsdale, AZ; Internetwork, Inc., San Francisco, CA; IP Infusion, San Jose, CA; Juniper Networks, Sunnyvale, CA; Maranti Networks, San Jose, CA; Microsoft Corporation; Redmond, WA; Net.com, Fremont, CA; Oracle, St. Louis, MO; PacketExchange, London, United Kingdom; Paradyne, Largo, FL; Procket Networks, Milpitas, CA; Radvision, Glen Rock, NJ; Siemens, Boca Raton, FL; Telechoice, Dallas, TX; Tony Fisch Consulting, Los Angeles, CA; Wandl Inc., Bound Brook, NJ; and Yipes, San Francisco, CA have been added as parties to this venture.

Also, AirFiber, San Diego, CA; American Management Systems, Fairfax, VA; Array Networks, Campbell, CA; Convedia Corporation, Vancouver, British Columbia, Canada; Eureka Soft, Cedex, France; Kabira Technologies, San Rafael, CA; Olsen Consulting, Staten Island, NY; Pingtel, Woburn, MA; and Polycom Inc., Pleasanton, CA have been dropped as parties to this venture.

No other changes have been made in either the membership or planned activity of the group research project. Membership in this group research project remains open, and SCC intends to file additional written notification disclosing all changes in membership.

On February 4, 2003, SCC filed its original notification pursuant to section 6(a) of the Act. The Department of Justice published a notice in the Federal Register pursuant to section 6(b) of the Act on May 16, 2003 (68 FR 26649).

Constance K. Robinson,
Director of Operations, Antitrust Division.

[FR Doc. 03-19049 Filed 7-25-03; 8:45 am]

BILLING CODE 4410-11-M